DEPARTMENT OF COMMERCE

National Oceanic and Atmospheric Administration

[I.D. 121406E]

Gulf of Mexico Fishery Management Council (Council); Public Meeting

AGENCY: National Marine Fisheries Service (NMFS), National Oceanic and Atmospheric Administration (NOAA), Commerce.

ACTION: Notice of a public meeting.

SUMMARY: The Gulf of Mexico Fishery Management Council (Council) will convene a public meeting of the Ad Hoc Shrimp Effort Management Advisory Panel (AP).

DATES: The Ad Hoc Shrimp Effort Management AP meeting is scheduled to begin at 1 p.m. on Monday, January 8, 2007, recess at 5 p.m., reconvene at 8:30 a.m. on Tuesday, January 9, 2007 and adjourn by 5 p.m.

ADDRESSES: The meeting will be held at the Hilton Houston Hobby Airport, 8181 Airport Blvd., Houston, TX 77061.

Council address: Gulf of Mexico Fishery Management Council, 2203 North Lois Avenue, Suite 1100, Tampa, FL 33607.

FOR FURTHER INFORMATION CONTACT: Dr. Richard Leard, Deputy Executive Director; telephone: (813) 348-1630.

SUPPLEMENTARY INFORMATION: The Ad Hoc Shrimp Effort Management AP will receive brief presentations on current levels of effort and the levels that could optimize yield from the shrimp fishery. The AP will receive similar briefings on the current level of shrimp trawl bycatch of juvenile red snapper and the maximum level of allowable bycatch that will maintain the current targets for rebuilding the red snapper stock in the Gulf of Mexico. Specifically, the Council has charged the Ad Hoc Shrimp Effort Management AP with the following task:

To develop management recommendations for the shrimp fishery to:

a. Manage effort to reduce red snapper bycatch mortality in the shrimp fishery by 50% from the 2001-03 base line in 2007.

b. Develop additional measures to reach the red snapper bycatch mortality reduction goals for the shrimp fishery established in the red snapper rebuilding plan.

The Ad Hoc Shrimp Effort Management AP consists of commercial shrimp fishermen, dealers, processors, and association representatives as voting members, as well as a NMFS scientist, two representatives of environmental non-government organizations, a NOAA enforcement representative, and a representative of the Sea Grant Cooperative Extension Service as nonvoting members.

Although other non-emergency issues not on the agenda may come before the AP for discussion, in accordance with the Magnuson-Stevens Fishery Conservation and Management Act (Magnuson-Stevens Act), those issues may not be the subject of formal action during this meeting. Actions of the AP will be restricted to those issues specifically identified in the agenda and any issues arising after publication of this notice that require emergency action under Section 305(c) of the Magnuson-Stevens Act, provided the public has been notified of the Council's intent to take action to address the emergency. Copies of the agenda can be obtained by calling (813) 348-1630.

Special Accommodations

This meeting is physically accessible to people with disabilities. Requests for sign language interpretation or other auxiliary aids should be directed to Tina Trezza at the Council (see ADDRESSES) at least 5 working days prior to the meeting.

Dated: December 14, 2006.
Tracey L. Thompson,
Acting Director, Office of Sustainable Fisheries, National Marine Fisheries Service.

[FR Doc. E6-21623 Filed 12-19-06; 8:45 am]

BILLING CODE 3510-22-S